ENVIRONMENTAL PROTECTION AGENCY

[OECA-2004-0049; FRL-7964-3]

Agency Information Collection Activities; Submission for OMB Review and Approval; Comment Request; The Consolidated Federal Air Rule for SOCMI (Renewal), ICR Number 1854.04, OMB Number 2060-0443

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on August 31, 2005. Under OMB regulations, the Agency may continue to conduct or sponsor the collection of information while this submission is pending at OMB. This ICR describes the nature of the information collection and its estimated burden and cost.

DATES: Additional comments may be submitted on or before October 3, 2005.

ADDRESSES: Submit your comments, referencing docket ID number OECA-2004-0049, to (1) EPA online using EDOCKET (our preferred method), by email to docket.oeca@epa.gov, or by mail to: EPA Docket Center, Environmental Protection Agency, Enforcement and Compliance Docket and Information Center, Mail Code 2201T, 1200 Pennsylvania Ave. NW., Washington, DC 20460, and (2) OMB at: Office of Information and Regulatory Affairs, Office of Management and Budget (OMB), Attention: Desk Officer for EPA, 725 17th Street, NW., Washington, DC 20503.

FOR FURTHER INFORMATION CONTACT: Marcia B. Mia, Compliance Assessment and Media Programs Division, Office, Mail Code: 2223A, Environmental Protection Agency, 1200 Pennsylvania Ave. NW., Washington, DC 20460; telephone number: (202) 564-7042; fax number: (202) 564-0050; e-mail address: mia.marcia@epa.gov.

SUPPLEMENTARY INFORMATION: EPA has submitted the following ICR to OMB for review and approval according to the procedures prescribed in 5 CFR 1320.12. On December 1, 2004 (69 FR 69909), EPA sought comments on this ICR pursuant to 5 CFR 1320.8(d). EPA received no comments.

EPA has established a public docket for this ICR under Docket ID Number OECA-2004-0049, which is available for public viewing at the Enforcement and Compliance Docket and Information Center in the EPA Docket Center (EPA/DC), EPA West, Room B102, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: The Consolidated Federal Air Rule for SOCMI (Renewal)

Abstract: This information collection request (ICR) is for the Consolidated Federal Air Rule (CAR) for the Synthetic Organic Chemical Manufacturing Industry (SOCMI) and its referencing subparts. EPA will use this information to ensure compliance with the provisions in the CAR and its referencing subparts.

All existing sources must be in compliance with the requirements of the CAR and/or its referencing subparts within three years of the effective date (i.e., promulgation date) of the appropriate standard for the affected source. All new sources must be in compliance with the requirements of the CAR and/or its referencing subparts upon startup or the promulgation date of standards for an affected source, whichever is later. Compliance is assumed through initial performance testing or design analysis, as appropriate, and ongoing compliance is demonstrated through parametric monitoring. Types of parameters monitored are incinerator temperature, scrubber flow rate, carbon adsorber regeneration frequency as well as others. The appropriate parameter to monitor depends on the type of control device with which the owner or operator chooses to comply.

The recordkeeping and reporting requirements in the standards ensure compliance with the applicable regulations which were promulgated in accordance with the Clean Air Act (CAA). The collected information is also used for targeting inspections and as evidence in legal proceedings.

Performance tests are required in order to determine an affected facility's initial capability to comply with the emission standards. In addition, continuous emission monitors are used to ensure that the respondent complies with the standards at all times. During the performance test, a record of the operating parameters under which compliance was achieved may be recorded and used to determine compliance in place of a continuous emission monitor.

The notifications required in the standards are used to inform the Agency or delegated authority when a source becomes subject to the requirements of the regulations. The reviewing authority may then inspect the source to ensure that the pollution control devices are properly installed and operated, that leaks are detected and repaired, and that the standards are met. The performance test may also be observed.

The required reports are used to determine periods of excess emissions, identify problems at the facility, verify operation/maintenance procedures, and for compliance determinations.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 180 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facilities in the Synthetic Organic Chemical Manufacturing Industry.

Estimated Number of Respondents: 3,913.

Frequency of Response: Initially, annually, semiannually and on occasion.

Estimated Total Annual Hour Burden: 2,057,270.

Estimated Total Annual Costs: $226,718,704, which includes $3,404,000 in annualized Capital/startup costs, $91,956,000 annual O&M costs, and $131,358,704 in Respondent Labor Costs.

Changes in the Estimates: There is a decrease in burden of 108,330 hours from the most recently approved ICR. Some 35,758 hours of the changes are a program change for NSPS subparts Kb, VV, DDD, III, NNN and RRR, which no longer require Notifications of Anticipated Startup. The balance of the changes (72,572 hours) are adjustments due primarily to correction of errors and the addition of clerical and managerial hours to the burden calculation. There is a corresponding decrease in the average hours per response of 29 hours; from 209 hours per response to 180 hours per response. There was a decrease of $4,561,000 in the Total Capital/Startup and Operation and Maintenance Costs due to an error in the previous ICR regarding the costs for monitoring equipment when determining Total Capital/Startup and Operation and Maintenance Costs for subpart Kb and subpart G of the Hazardous Organic National Emission Standards for Hazardous Air Pollutants (HON). The cost for certain control devices was inadvertently included in the previous ICR.

Dated: August 26, 2005.
Oscar Morales,
Director, Collection Strategies Division.

[FR Doc. 05-17436 Filed 8-31-05; 8:45 am]

BILLING CODE 6560-50-P